DEPARTMENT OF HEALTH AND HUMAN SERVICES

Substance Abuse and Mental Health Services Administration

Fiscal Year (FY) 2011 Funding Opportunity

AGENCY: Substance Abuse and Mental Health Services Administration, HHS.

ACTION: Notice of intent to award a Single Source Grant to the Health Service Center, Inc., Anniston, AL.

SUMMARY: This notice is to inform the public that the Substance Abuse and Mental Health Services Administration (SAMHSA) intends to award approximately $300,000 (total costs) per year for up to four years to the Health Service Center, Inc., Anniston, AL. This is not a formal request for applications. Assistance will be provided only to the Health Service Center, Inc., Anniston, AL, based on the receipt of a satisfactory application that is approved by an independent review group.

Funding Opportunity Title: SP-11-005.

Catalog of Federal Domestic Assistance (CFDA) Number: 93.243

Authority: Section 516 of the Public Health Service Act, as amended.

Justification: Only the Health Service Center, Inc., Anniston, AL, is eligible to apply. The Substance Abuse and Mental Health Services Administration (SAMHSA), Center for Substance Abuse Prevention (CSAP) is seeking to award a single source grant to the Health Service Center, Inc., Anniston, AL, for the Capacity Building Initiative (CBI). CBI is one of CSAP's Minority AIDS Initiative (MAI) programs. The purpose of the MAI is to provide substance abuse and HIV prevention services to at-risk minority populations in communities disproportionately affected by HIV/AIDS. The purpose of the CBI program is to support an array of activities to assist grantees in building a solid foundation for delivering and sustaining quality and accessible state of the science substance abuse and HIV prevention services. Specifically, the program aims to engage colleges, universities and community-level domestic public and private non-profit entities to prevent and reduce the onset of SA and transmission of HIV/AIDS among at-risk racial/ethnic minority young adults, ages 18-24.

The Health Service Center, Inc., Anniston, AL, was funded under the SP-10-004 CBI Initiative in FY 2010. At that time, the Health Services Center, Inc. proposed a 5-year program in their grant application, but inadvertently requested one year of funding rather than the full program funding period of 5 years. It was clear from language in the original application (which specifically referred to individual years of the program, and numbers served throughout the project) that the grantee intended to apply for funding for the full five years. The purpose of this sole source award is to fund the 4 out years of the 5 year cooperative agreement awarded under the initial announcement. SAMHSA will not accept an application from any other entity.

FOR FURTHER INFORMATION CONTACT: Shelly Hara, Substance Abuse and Mental Health Services Administration, 1 Choke Cherry Road, Room 8-1095, Rockville, MD 20857; telephone: (240) 276-2321; E-mail: shelly.hara@samhsa.hhs.gov.

Cathy Friedman,
Public Health Analyst, SAMHSA .

[FR Doc. 2011-19965 Filed 8-5-11; 8:45 am]

BILLING CODE 4162-20-P